DEPARTMENT OF COMMERCE

National Oceanic and Atmospheric Administration

50 CFR Part 223

[Docket No. 240508-0132]

RIN 0648-BM49

Endangered and Threatened Wildlife and Plants; Protective Regulations for the Oceanic Whitetip Shark (Carcharhinus longimanus); Extension of Public Comment Period

AGENCY: National Marine Fisheries Service (NMFS), National Oceanic and Atmospheric Administration (NOAA), Department of Commerce.

ACTION: Proposed rule; extension of public comment period and announcement of public hearing.

SUMMARY: We, NMFS, announce the extension of the public comment period on our May 14, 2024, proposed rule to issue protective regulations under section 4(d) of the Endangered Species Act (ESA) for the conservation of the threatened oceanic whitetip shark (Carcharhinus longimanus). As part of that proposed action, we solicited comment on the proposed rule, a draft environmental assessment (EA), and an initial regulatory flexibility analysis (IRFA) over a 60-day period, to end on July 15, 2024. Today, we extend the public comment period by 60 days to September 15, 2024, and announce that we will be holding one or more public hearings on the proposed rule. Comments previously submitted do not need to be resubmitted, as they will be fully considered in the agency's proposed action.

DATES: The deadline for receipt of comments is extended from July 15, 2024, until September 15, 2024.

ADDRESSES: You may submit comments on this proposed rule, identified by NOAA-NMFS-2023-0117 by any one of the following methods:

• Electronic Submissions: Submit all electronic comments via the Federal e-Rulemaking Portal. Go to https://www.regulations.gov and enter NOAA-NMFS-2023-0117 in the Search box. Click the “Comment” icon, complete the required fields, and enter or attach your comments.

• Mail or hand-delivery: Office of Protected Resources, NMFS, 1315 East-West Highway, Silver Spring, MD 20910.

Instructions: Comments sent by any other method, to any other address or individual, or received after the end of the comment period, may not be considered by NMFS. All comments received are part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

The proposed rule and other supporting materials are available electronically at: https://www.fisheries.noaa.gov/species/oceanic-whitetip-shark/conservation-management.

FOR FURTHER INFORMATION CONTACT: Adrienne Lohe, NMFS Office of Protected Resources, 301-427-8442; Adrienne.Lohe@noaa.gov.

SUPPLEMENTARY INFORMATION:

Background

On May 14, 2024, we published a proposed rule to issue protective regulations under section 4(d) of the ESA for the threatened oceanic whitetip shark (Carcharhinus longimanus) (89 FR 41917). In that notification, we also announced a 60-day public comment period and the availability of a draft EA and IRFA.

We received a request to extend the public comment period and hold public hearings for fishing communities in Hawaii, the Territories of American Samoa and Guam, and the Commonwealth of the Northern Mariana Islands in order to better understand the potential impact of the proposed rule and for communities to provide comments on the proposed rule. We considered the request and concluded that a 60-day extension should allow sufficient time for responders to submit comments without significantly delaying finalization of the proposed rule. We are therefore extending the close of the public comment period from July 15, 2024, to September 15, 2024. In addition to extending the public comment period, we are announcing that we will hold one or more public hearings on the proposed rule. Details on the date(s), time(s) and location(s) of the public hearing(s) will be announced in an upcoming Federal Register notice.

Authority: 16 U.S.C. 1531 et seq.

Dated: July 5, 2024.
Samuel D. Rauch III,
Deputy Assistant Administrator for Regulatory Programs, National Marine Fisheries Service.

[FR Doc. 2024-15177 Filed 7-10-24; 8:45 am]

BILLING CODE 3510-22-P